INTERNATIONAL TRADE COMMISSION

[USITC SE-08-014]

Government in the Sunshine Act Meeting Notice; Change of Time for Government in the Sunshine Act Meeting

Agency Holding The Meeting: United States International Trade Commission.

Date Of Meeting: May 28, 2008 at 11 a.m.

Original Time Of Meeting: 11 a.m.

New Time Of Meeting: 10:45 a.m.

Place: Room 101, 500 E Street, SW., Washington, DC 20436, Telephone: (202) 205-2000.

Status: Open to the public.

Action: In accordance with 19 CFR 201.37, public notice is hereby given that the Commission has determined to change the time of the Government in the Sunshine Act Meeting scheduled for May 28, 2008 from 11 a.m. to 10:45 a.m.

Earlier announcement of this action was not possible.

Issued: May 20, 2008.
By order of the Commission.
William R. Bishop,
Hearings and Meetings Coordinator.

[FR Doc. E8-11657 Filed 5-22-08; 8:45 am]

BILLING CODE 7020-02-P